SMALL BUSINESS ADMINISTRATION

13 CFR Part 121

RIN 3245-AF00

Small Business Size Standards; Adoption of Size Standards by 2002 North American Industry Classification System for Size Standards

AGENCY: Small Business Administration (SBA).

ACTION: Direct final rule; correction.

SUMMARY: The Small Business Administration (SBA) is correcting the correction notice it published in the Federal Register on September 6, 2002. This notice inserts the heading “Subsector 454—Nonstore Retailers” into the table and corrects the misalignment of footnote 9 and footnote 10. The September 6, 2002, notice corrected the direct final rule that SBA published in the Federal Register on August 13, 2002, amending Small Business Size Regulations by incorporating the Office of Management and Budget's (OMB) 2002 modifications of the North American Industry Classification System (NAICS) into its table of small business size standards.

DATES: This correction is effective on October 1, 2002.

FOR FURTHER INFORMATION CONTACT: Carl Jordan, Program Analyst, Office of Size Standards, at (202) 205-6618 or sizestandards@sba.gov.

SUPPLEMENTARY INFORMATION: SBA published a direct final rule in the Federal Register on August 13, 2002, (67 FR 52597) amending its Small Business Size Regulations by incorporating the Office of Management and Budget's (OMB) 2002 modifications of the North American Industry Classification System (NAICS) into its table of small business size standards. The August 13, 2002, Federal Register publication omitted dollar signs for many of the monetary-based size standards. Therefore, SBA published the September 6, 2002 (67 FR 56905) correction. It included the entire table of size standards, with monetary-based and employee-based size standards in different columns for ease of use.

The table omitted the heading “Subsector 454—Nonstore Retailers” in the table, and SBA is therefore adding it with this correction. It does not affect any NAICS code or size standard.

Also, SBA inadvertently appended footnote 9 and footnote 10 to the industry descriptions of NAICS codes 531210 and 531311. However, footnote 9 correctly applies to the description of the “Exception” in NAICS 531190, and footnote 10 correctly applies to the industry description of NAICS 531210. There is no footnote to NAICS 531311. The “Footnotes” section at the end of the table correctly matches footnote 9 to the description of the exception to NAICS 531190 and footnote 10 to the industry description of NAICS 531210.

In FR Doc. 02-22200 published on September 6, 2002 (67 FR 56905) make the following two corrections:

§ 121.201 [Corrected]

1. On page 56919, in § 121.201, in the table, in Sectors 44-45, Retail Trade, add the heading Subsector 454—Nonstore Retailers immediately below NAICS code 453998 and immediately above NAICS 454111, as set forth below:

Small Business Size Standards by NAICS Industry
NAICS codes | NAICS U.S. industry title | Size standards in millions of dollars | Size standards in number of employees
Sectors 44-45—Retail Trade
| * * * * * * *
Subsector 453—Miscellaneous Store Retailers
| * * * * * * *
453998 | All Other Miscellaneous Store Retailers (except Tobacco Stores) | $6.0
Subsector 454—Nonstore Retailers
454111 | Electronic Shopping | 21.0
* * * * * * *

2. On page 56922, in § 121.201, in the table, in Subsector 531—Real Estate, the entries for NAICS 531190, NAICS 531210 and NAICS 531311 are corrected as set forth below:

Small Business Size Standards by NAICS Industry
NAICS codes | NAICS U.S. industry title | Size standards in millions of dollars | Size standards in number of employees
Sector 53—Real Estate and Rental and Leasing
Subsector 531—Real Estate
| * * * * * * *
531190 | Lessors of Other Real Estate Property | $6.0
Except, | Leasing of Building Space to Federal Government by Owners ⁹ | ⁹ 17.5
531210 | Offices of Real Estate Agents and Brokers ¹⁰ | ¹⁰ 1.5
531311 | Residential Property Managers | 1.5
* * * * * * *

Dated: October 24, 2002.
Gary M. Jackson,
Assistant Administrator.

[FR Doc. 02-27503 Filed 11-1-02; 8:45 am]

BILLING CODE 8025-01-P